SMALL BUSINESS ADMINISTRATION

[Disaster Declaration #10322 and #10323]

Texas Disaster Number TX-00097

AGENCY: U.S. Small Business Administration.

ACTION: Amendment 8.

SUMMARY: This is an amendment of the Presidential declaration of a major disaster for the State of Texas (FEMA-1624-DR), dated January 11, 2006.

Incident: Extreme Wildfire Threat.

Incident Period: November 27, 2005 and continuing.

Effective Date: May 1, 2006.

Physical Loan Application Deadline Date: May 30, 2006.

EIDL Loan Application Deadline Date: October 11, 2006.

ADDRESSES: Submit completed loan applications to : U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated January 11, 2006 is hereby amended to include the following areas as adversely affected by the disaster:

Primary Counties:

Kerr

Contiguous Counties:

Texas:

Bandera, Edwards, Gillespie, Kendall, Kimble, Real

All other information in the original declaration remains unchanged.

(Catalog of Federal Domestic Assistance Numbers 59002 and 59008)

Herbert L. Mitchell,
Associate Administrator for Disaster Assistance.

[FR Doc. E6-6990 Filed 5-8-06; 8:45 am]

BILLING CODE 8025-01-P